FEDERAL COMMUNICATIONS COMMISSION

[WC Docket No. 05-25; DA 14-1429]

Wireline Competition Bureau Launches Secure Web Portal for Special Access Data Collection

AGENCY: Federal Communications Commission.

ACTION: Notice.

SUMMARY: On October 1, 2014, the Commission launched a secure web portal interface allowing the electronic filing of responses to the Special Access Data Collection as outlined in the December 11, 2012 Report and Order and Further Notice of Proposed Rulemaking, which requires providers and purchasers of special access services and certain entities providing “best efforts” services in areas where incumbent local exchange carriers are subject to price cap regulation, to submit data for a comprehensive evaluation of the special access services market.

DATES: Responses are due by December 15, 2014.

ADDRESSES: Federal Communications Commission, 445 12th Street SW., Washington, DC 20554.

FOR FURTHER INFORMATION CONTACT: Christopher S. Koves, Wireline Competition Bureau, Pricing Policy Division, (202) 418-8209 or Christopher.Koves@fcc.gov.

SUPPLEMENTARY INFORMATION: This is a summary of the Commission's public notice, WC Docket No. 05-25, RM-10593, DA 14-1429, released October 1, 2014. This document does not contain information collection(s) subject to the Paperwork Reduction Act of 1995 (PRA), Public Law 104-13. In addition, therefore, it does not contain any new or modified “information collection burden[s] for small business concerns with fewer than 25 employees,” pursuant to the Small Business Paperwork Relief Act of 2002. The full text of this document may be downloaded at the following Internet address: http://www.fcc.gov/document/wcb-launches-secure-portal-special-access-data-collection. The complete text maybe purchased from Best Copy and Printing, Inc., 445 12th Street SW., Room CY-B402, Washington, DC 20554. To request alternative formats, for persons with disabilities (e.g. accessible format documents, sign language, interpreters, CARTS, etc.), send an email to fcc504@fcc.gov or call the Commission's Consumer and Governmental Affairs Bureau at (202) 418-0530 or (202) 418-0432 (TTY).

I. Background

On October 1, 2014, the Commission's Wireline Competition Bureau released a public notice announcing the activation of a secure web portal for the electronic filing of information and certifications in response to the special access data collection. The web portal is available at https://specialaccessfiling.fcc.gov/spadc/login.

This web portal launch further implements the collection outlined by the Commission in its December 11, 2012 Report and Order and Further Notice of Proposed Rulemaking, which requires providers and purchasers of special access services and certain entities providing “best efforts” services in the same areas as price-cap local exchange carriers, to submit data and information for a comprehensive evaluation of the special access market. Responses to the collection are due by December 15, 2014.

The Bureau will conduct an instructional webinar well in advance of the filing deadline to further educate respondents on the electronic submission process. Additional information on the data collection and the underlying special access rulemaking proceeding can be found at: http://www.fcc.gov/encyclopedia/special-access-data-collection-overview-0. For further information regarding this proceeding, contact Christopher S. Koves, Pricing Policy Division, Wireline Competition Bureau, (202) 418-8209 or Christopher.Koves@fcc.gov.

Federal Communications Commission.
Lynne Engledow,
Acting Deputy Chief, Pricing Policy Division.

[FR Doc. 2014-24497 Filed 10-14-14; 8:45 am]

BILLING CODE 6712-01-P